DEPARTMENT OF ENERGY

Federal Energy Regulatory Commission

Notice of Request To Use the Alternative Licensing Process in Preparing a License Application

May 9, 2002.

Take notice that the following request to use the Alternative Licensing Process (ALP) to prepare a license application has been filed with the Federal Energy Regulatory Commission (Commission).

a. Type of Application: Request to use the ALP to prepare a new license application.

b. Project No.: 2216-058.

c. Date Filed: March 6, 2002.

d. Applicant: New York Power Authority.

e. Name of Project: Robert Moses-Niagara Project.

f. Location: On the Niagara River, in Niagara County, New York. The project does not occupy any Federal lands.

g. Filed Pursuant To: Federal Power Act, 16 U.S.C. 791(a)-825(r).

h. Applicant Contact: Keith G. Silliman, Esq., Director, Niagara Relicensing, New York Power Authority, 30 South Pearl Street, Albany, NY 12207-3425, (518) 433-6735.

i. Commission Contact: Patti Leppert at (202) 219-2767; e-mail patricia.leppert@ferc.gov.

j. Deadline for Comments: 30 days from the date of this notice.

All documents (original and eight copies) should be filed with: Magalie R. Salas, Secretary, Federal Energy Regulatory Commission, 888 First Street, NE, Washington, DC 20426. All comment filings must bear the heading “Comments on the Alternative Licensing Process”, and include the project name and number (Robert Moses-Niagara Project No. 2216-058). Comments may be filed electronically via the Internet in lieu of paper. See 18 CFR 385.2001(a)(1)(iii) and the instructions on the Commission's Web site (http://www.ferc.gov) under the “e-Filing” link.

k. The existing project consists of a conventional development and a pumped storage development for a total licensed capacity of 2,755,500 kilowatts. Existing project facilities include two 700-foot-long intake structures located on the upper Niagara River about 2.6 miles upstream from the American Falls; two 4.3-mile-long concrete underground water supply conduits, each measuring 46 feet wide by 66.5 feet high; a forebay; the Lewiston Pump-Generating Plant, measuring 975 feet long by 240 feet wide by 160 feet high; the 1,900-acre Lewiston reservoir at a maximum water surface elevation of 658 feet United States Lake Survey Datum; the Robert Moses Niagara Power plant, including an intake structure, measuring 1,100 feet long by 190 feet wide by 100 feet high; a switch yard; and appurtenant facilities.

l. A copy of the request to use the ALP is on file with the Commission and is available for public inspection. This filing may also be viewed on the Web at http://www.ferc.gov using the “RIMS” link, select “Docket #” and follow the instructions (for assistance call (202) 208-2222). A copy is also available for inspection and reproduction at the address in item h above.

m. NYPA has been engaged in an extensive outreach effort with Federal and state resource agencies, the Tuscarora Nation, non-governmental organizations (NGO), state and local governments, various companies, and the public regarding the Robert Moses-Niagara Project, and that a consensus exists that the use of the ALP is appropriate in this case. NYPA has submitted a Communications Protocol that is supported by most interested entities. NYPA intends to file 6-month progress reports during the ALP that leads to the filing of a license application by August 31, 2005.

The purpose of this notice is to invite any additional comments on NYPA's request to use the ALP, pursuant to Section 4.34(i) of the Commission's regulations. Additional notices seeking comments on the specific project proposal, interventions and protests, and recommended terms and conditions will be issued at a later date. NYPA proposes to complete and file an Applicant-Prepared Environmental Assessment in lieu of Exhibit E of the license application. This differs from the traditional process, in which the applicant consults with resource agencies, Indian tribes, and NGOs during preparation of the application for the license and before filing it, but the Commission staff conducts the environmental review after the application is filed. The ALP is intended to simplify and expedite the licensing process by combining the pre-filing consultation and environmental review processes into a single process, to facilitate greater participation, and to improve communication and cooperation among the participants.

Linwood A. Watson, Jr.,
Deputy Secretary.

[FR Doc. 02-12106 Filed 5-14-02; 8:45 am]

BILLING CODE 6717-01-P